ENVIRONMENTAL PROTECTION AGENCY

[FRL-8744-5]

Federal Agency Hazardous Waste Compliance

AGENCY: Environmental Protection Agency.

ACTION: Notice of twenty-third update of the Federal Agency Hazardous Waste Compliance Docket.

SUMMARY: Since 1988, the U.S. Environmental Protection Agency (EPA) has maintained a Federal Agency Hazardous Waste Compliance Docket (“the Docket”) under Section 120(c) of the Comprehensive Environmental Response, Compensation, and Liability Act (CERCLA). Section 120(c) requires EPA to establish a Docket that contains certain information reported to EPA by Federal facilities that manage hazardous waste or from which a reportable quantity of hazardous substances has been released. The Docket is used to identify Federal facilities that should be evaluated to determine if they pose a threat to public health or welfare and the environment and to provide a mechanism to make this information available to the public. The Docket contains information that is submitted by Federal facilities under the following authorities: CERCLA Section 103, and RCRA Sections 3005, 3010 and 3016. EPA is required to publish a list of newly reported facilities in the Federal Register.

CERCLA Section 120(d) requires that EPA take steps to assure that a Preliminary Assessment (PA) be completed for those sites identified in the Docket and that the evaluation and listing of sites with a PA be completed within a reasonable time frame. The PA is designed to provide information for EPA to consider when evaluating the site for potential response action or listing on the National Priorities List (NPL).

Today's notice identifies the Federal facilities not previously listed on the Docket and reported to EPA since the last update of the Docket (72 FR 46218) on August 17, 2007. In addition to the list of additions to the Docket, this notice includes a section with revisions of the previous Docket list. The revisions in this update include 33 additions and 53 deletions since the previous update, as well as numerous other corrections to the Docket list. At the time of publication of this notice, the new total number of Federal facilities listed on the Docket is 2,271.

DATES: This list is current as of November 4, 2008.

FOR FURTHER INFORMATION CONTACT: Electronic versions of the Docket and more information on its implementation can be obtained at http://www.epa.gov/fedfac/documents/docket.htm by clicking on the link for Update #23 to the Federal Agency Hazardous Waste Compliance Docket.

SUPPLEMENTARY INFORMATION:

Table of Contents

1.0 Introduction

2.0 Regional Docket Coordinators

3.0 Revisions of the Previous Docket

4.0 Process for Compiling the Updated Docket

5.0 Facilities Not Included

6.0 Facility Status Reporting, Including NFRAP Status Updates

7.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), requires the U.S. Environmental Protection Agency (EPA) to establish the Federal Agency Hazardous Waste Compliance Docket (“Docket”). The Docket contains information on Federal facilities that is submitted by Federal agencies to EPA under Sections 3005, 3010, and 3016 of the Resource Conservation and Recovery Act (RCRA), 42 U.S.C. 6925, 6930, and 6937, and under Section 103 of CERCLA, 42 U.S.C. 9603. Specifically, RCRA Section 3005 establishes a permitting system for certain hazardous waste treatment, storage, and disposal (TSD) facilities; RCRA Section 3010 requires waste generators, transporters and TSD facilities to notify EPA of their hazardous waste activities; and RCRA Section 3016 requires Federal agencies to submit biennially to EPA an inventory of their Federal hazardous waste facilities. CERCLA Section 103(a) requires the owner or operator of a vessel or onshore or offshore facility to notify the National Response Center (NRC) of any spill or other release of a hazardous substance that equals or exceeds a reportable quantity (RQ), as defined by CERCLA Section 101. Additionally, CERCLA Section 103(c) requires facilities that have “stored, treated, or disposed of” hazardous wastes and where there is “known, suspected, or likely releases” of hazardous substances to report their activities to EPA.

The Docket serves three major purposes: (1) To identify all Federal facilities that must be evaluated to determine whether they pose a risk to human health and the environment sufficient to warrant inclusion on the National Priorities List (NPL); (2) to compile and maintain the information submitted to EPA on such facilities under the provisions listed in Section 120(c) of CERCLA; and (3) to provide a mechanism to make the information available to the public.

The initial list of Federal facilities to be included on the Docket was published in the Federal Register on February 12, 1988 (53 FR 4280). Since then, updates to the Docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR44200); January 2, 2003 (68 FR 107); July 11, 2003 (68 FR 41353); December 15, 2003 (68 FR 240); July 19, 2004 (69 FR 42989); December 20, 2004 (69 FR 75951); October 25, 2005 (70 FR 61616); and August 17, 2007 (72 FR 46218). This notice constitutes the twenty-third update of the Docket.

Today's notice provides some background information on the Docket. Additional information on the Docket requirements and implementation are found in the Docket Reference Manual, Federal Agency Hazardous Waste Compliance Docket found at http://www.epa.gov/fedfac/documents/docket.htm or obtained by calling the Regional Docket Coordinators listed below. Today's notice also provides changes to the list of sites included on the Docket in four areas: (1) Additions, (2) Deletions, (3) Corrections, and (4) No Further Remedial Action Planned (NFRAP) Status Changes. Specifically, additions are newly identified Federal facilities that have been reported to EPA since the last update and now are included on the Docket; the deletions section lists Federal facilities that EPA is deleting from the Docket;¹ the corrections section lists changes in the information about the Federal facilities already listed on the Docket; and the section updating the NFRAP status lists the Federal facilities whose NFRAP status has changed since the last Docket update.

¹ See Section 3.2 for the criteria for being deleted from the Docket.

The information submitted to EPA on each Federal facility is maintained in the Docket repository located in the EPA Regional office of the Region in which the facility is located; for a description of the information required under those provisions, see 53 FR 4280 (February 12, 1988). Each repository contains the documents submitted to EPA under the reporting provisions and correspondence relevant to the reporting provisions for each facility.

2.0 Regional Docket Coordinators

Contact the following Docket coordinators for information on Regional Docket repositories:

Gerardo Millán-Ramos (HBS), U.S. EPA Region 1, #1 Congress St., Suite 1100, Boston, MA 02114-2023, (617) 918-1377.

Helen Shannon (ERRD), U.S. EPA Region 2, 290 Broadway, 18th Floor, New York, NY 10007-1866, (212) 637-4260 or Alida Karas (ERRD), U.S. EPA Region 2, 290 Broadway, New York, NY 10007-1866, (212) 637-4276.

Cesar Lee (3HS50), U.S. EPA Region 3, 1650 Arch Street, Philadelphia, PA 19107, (215) 814-3205.

Donna Webster (4SF-FFB), U.S. EPA Region 4, 61 Forsyth St., SW, Atlanta, GA 30303, (404) 562-8870.

Michael Chrystof (SR-6J), U.S. EPA Region 5, 77 W. Jackson Blvd., Chicago, IL 60604, (312) 353-3705.

Philip Ofosu (6SF-RA), U.S. EPA Region 6, 1445 Ross Avenue, Dallas, TX 75202-2733, (214) 665-3178.

D. Karla Asberry (MO/KS RB), U.S. EPA Region 7, 901 N. Fifth Street, Kansas City, KS 66101, (913) 551-7595.

Stan Zawistowski (EPR-F), U.S. EPA Region 8, 1595 Wynkoop Street, Denver, CO 80202 (303) 312-6255

Carol Weinstein (SFD-6-1), U.S. EPA Region 9, 75 Hawthorne Street, San Francisco, CA 94105, (415) 972-3083 or Debbie Schechter (SFD-6-1), U.S. EPA Region 9, 75 Hawthorne Street, San Francisco, CA 94105, (415) 972-3093.

Monica Lindeman (ECL, ABU # 1), U.S. EPA Region 10, 1200 Sixth Avenue, Seattle, WA 98101, (206) 553-5113 or Ken Marcy (ECL, ABU # 1), U.S. EPA Region 10, 1200 Sixth Avenue, Seattle, WA 98101, (206) 463-1349.

3.0 Revisions of the Previous Docket

This section includes a discussion of the additions, deletions, corrections, and NFRAP status changes to the list of Docket facilities since the previous Docket update.

3.1 Additions

Today, 33 Federal facilities are being added to the Docket, primarily because of new information obtained by EPA (for example, recent reporting of a facility pursuant to RCRA Sections 3005, 3010, or 3016 or CERCLA Section 103). CERCLA Section 120, as amended by the Defense Authorization Act of 1997, specifies that EPA take steps to assure that a Preliminary Assessment (PA) be completed within a reasonable time frame for those Federal facilities that are included on the Docket. Among other things, the PA is designed to provide information for EPA to consider when evaluating the site for potential response action or listing on the NPL.

3.2 Deletions

Today, 53 Federal facilities are being deleted from the Docket. There are no statutory or regulatory provisions that address deletion of a facility from the Docket. However, if a facility is incorrectly included on the Docket, it may be deleted from the Docket; this may be appropriate for a facility for which there was an incorrect report submitted for hazardous waste activity under RCRA (e.g., 40 CFR 262.44); a facility that was not Federally-owned or operated at the time of the listing; facilities included more than once (i.e., redundant listings); or when multiple facilities are combined under one listing. Facilities being deleted no longer will be subject to the requirements of CERCLA Section 120(d).

3.3 Corrections

Changes necessary to correct the previous Docket were identified by both EPA and Federal agencies. The corrections include changes in addresses or spelling, corrections of the recorded name and ownership of a Federal facility, and additional reporting mechanisms used to include a facility on the Docket. In addition, some changes in the names of Federal facilities were made to establish consistency in the Docket or between CERCLIS and the Docket. For each Federal facility for which a correction has been entered, the original entry (designated by an “o”), as it appeared in previous Docket updates, is shown directly below the corrected entry (designated by a “c”) for easy comparison. Today, information is being corrected for 27 facilities.

3.4 NFRAP Status Changes

Today's update to the Docket includes a chart showing 7 sites with changes in their NFRAP status. When a Federal facility listed on the Docket provides a PA (and if warranted a Site Inspection (SI)) for a site to EPA, EPA evaluates the site in accordance with the Hazard Ranking System (HRS) to determine whether the site scores sufficiently high to warrant NPL listing. If EPA determines that the facility or site does not pose a threat sufficient to warrant Superfund action, EPA typically will designate the site status as NFRAP under Superfund.

A decision not to take further response/remedial action under the Superfund program usually is based on a finding that there is no significant threat to human health or the environment, and EPA would not propose to list the site on the NPL at that time. If new or additional information becomes available suggesting that the site may warrant further evaluation, EPA will re-evaluate the site accordingly. This decision does not preclude any further action at the Federal facility or site by another EPA program, the State or other Federal agency. Generally, NFRAP status pertains to sites included in the CERCLIS Inventory.

An “N” in this chart designates the site as NFRAP.

4.0 Process for Compiling the Updated Docket

In compiling the newly reported Federal facilities for the update being published today, EPA extracted the names, addresses, and identification numbers of facilities from four EPA databases—ERNS, the Biennial Inventory of Federal Agency Hazardous Waste Activities, the Resource Conservation and Recovery Information System (RCRAInfo), and the Superfund Comprehensive Environmental Response, Compensation, and Liability Information System (CERCLIS)—that contain information about Federal facilities submitted under the four provisions listed in CERCLA Section 120(c).

EPA assures the quality of the information on the Docket by conducting extensive evaluation of the current Docket list with the information obtained from the databases identified above to determine which Federal facilities were, in fact, newly reported and qualified for inclusion on the update. EPA is also striving to correct errors for Federal facilities that were previously reported. For example, state-owned or privately owned facilities that are not operated by the Federal government may have been included. Such problems are sometimes caused by procedures historically used to report and track Federal facilities data. EPA is working to resolve them. Representatives of Federal agencies are asked to write to EPA's Docket coordinator at the following address if revisions of this update information are necessary: Tim Mott, Federal Agency Hazardous Waste Compliance Docket Coordinator, Federal Facilities Restoration and Reuse Office (Mail Code 5106P), U.S. Environmental Protection Agency, 1200 Pennsylvania Avenue, NW., Washington, DC 20460.

5.0 Facilities Not Included

Certain categories of facilities may not be included on the Docket, such as: (1) Federal facilities formerly owned by a Federal agency that at the time of consideration was not Federally-owned or operated; (2) Federal facilities that are small quantity generators (SQGs) that have never generated more than 1,000 kg of hazardous waste in any month; (3) Federal facilities that are solely hazardous waste transportation facilities, as reported under RCRA Section 3010; and (4) Federal facilities that have mixed mine or mill site ownership. An EPA policy issued in June, 2003 provided guidance for a site-by-site evaluation as to whether “mixed ownership” mine or mill sites, created as a result of the General Mining Law of 1872 and never reported under Section 103(a), should be included on the Docket. For purposes of that guidance, mixed ownership mine or mill sites are those located partially on private land and partially on public land. This guidance is found at http://www.epa.gov/fedfac/pdf/mixownrshpmine.pdf. The guidance for not including these facilities may change; facilities now not included may be added at some point if EPA determines that they should be included.

6.0 Facility NPL Status Reporting, Including NFRAP Status

EPA typically tracks the NPL status of Federal facilities listed on the Docket. An updated list of the NPL status of all Docket facilities, as well as their NFRAP status, is available at http://www.epa.gov/fedfac/documents/docket.htm.

7.0 Information Contained on Docket Listing

The updated information is provided in four tables. The first table is a list of new Federal facilities that are being added on the Docket. The second is a list of Federal facilities that are being deleted from the Docket. The third contains corrections of information included on the Docket. The fourth table lists updates to NFRAP status.

The facilities listed in each table are organized by state and then grouped alphabetically within each state by the Federal agency responsible for the facility. Under each state heading is listed, the name and address of the facility, the Federal agency responsible for the facility, the statutory provision(s) under which the facility was reported to EPA, and a code. Each Federal facility listed in the update has been assigned a code that indicates a specific reason for the addition, deletion, or correction. The code key precedes the lists.

The statutory provisions under which a facility is reported are listed in a column titled “Reporting Mechanism.” Applicable mechanisms are listed for each facility: for example Sections 3010, 3016, 103(c), or Other. “Other” has been added as a reporting mechanism to indicate those Federal facilities that otherwise have been identified to have releases or threat of releases of hazardous substances. The National Contingency Plan 40 CFR 300.405 addresses discovery or notification and outlines what constitutes discovery of a hazardous substance release, and states that a release may be discovered in several ways, including (1) A report submitted in accordance with Section 103(a) of CERCLA, i.e., reportable quantities codified at 40 CFR part 302; (2) A report submitted to EPA in accordance with Section 103(c) of CERCLA; (3) Investigation by government authorities conducted in accordance with Section 104(e) of CERCLA or other statutory authority; (4) Notification of a release by a Federal or state permit holder when required by its permit; (5) Inventory or survey efforts or random or incidental observation reported by government agencies or the public; (6) Submission of a citizen petition to EPA or the appropriate Federal facility requesting a preliminary assessment, in accordance with Section 105(d) of CERCLA; (7) A report submitted in accordance with Section 311(b)(5) of the CWA; and (8) Other sources. As a policy matter, EPA generally believes it is appropriate for Federal facilities identified through the CERCLA discovery and notification process to be included on the Docket.

The complete list of Federal facilities that now make up the Docket and the NPL and NFRAP status are available to interested parties and can be obtained at http://www.epa.gov/fedfac/documents/docket.htm by clicking on the link for Federal Agency Hazardous Waste Compliance Docket Update #23 or by calling Tim Mott, the EPA HQ Docket Coordinator at (703) 603-8807. As of today, the total number of Federal facilities that appear on the Docket is 2,273.

Dated: November 7, 2008.
John E. Reeder,
Director, Federal Facilities Restoration and Reuse Office, Office of Solid Waste and Emergency Response.

Docket Codes

Categories for Deletion of Facilities

(1) Small-Quantity Generator.

(2) Never Federally Owned and/or Operated.

(3) Formerly Federally Owned and/or Operated but not at time of listing.

(4) No Hazardous Waste Generated.

(5) (This code is no longer used.)

(6) Redundant Listing/Site on Facility.

(7) Combining Sites Into One Facility/ Entries Combined.

(8) Does Not Fit Facility Definition.

(9) (This code is no longer used.)

(10) (This code is no longer used.)

(11) (This code is no longer used.)

(12) (This code is no longer used.)

(13) (This code is no longer used.)

(14) (This code is no longer used.)

Categories for Addition of Facilities

(15) Small-Quantity Generator with either a RCRA 3016 or CERCLA 103 Reporting Mechanism.

(16) One Entry Being Split Into Two (or more)/ Federal Agency Responsibility Being Split.

(17) New Information Obtained Showing That Facility Should Be Included.

(18) Facility Was a Site on a Facility That Was Disbanded; Now a Separate Facility.

(19) Sites Were Combined Into One Facility.

(19A) New currently Federally owned and/or operated Facility site.

Categories for Corrections of Information About Facilities

(20) Reporting Provisions Change.

(20A) Typo Correction/Name Change/Address Change.

(21) Changing Responsible Federal Agency. (If applicable, new responsible Federal agency must submit proof of previously performed PA, which is subject to approval by EPA.)

(22) Changing Responsible Federal Agency and Facility Name. (If applicable, new responsible Federal agency must submit proof of previously performed PA, which is subject to approval by EPA.)

(23) New Reporting Mechanism Added at Update.

(24) Reporting Mechanism Determined To Be Not Applicable After Review of Regional Files.

Federal Agency Hazardous Waste Compliance Docket Update #23-Additions
Facility name | Address | City | State | Zip code | Agency | Reporting mechanism | Code
Transportation Security Administration at LAX | 5757 W Century Blvd | Los Angeles | CA | 90045 | Homeland Security | 3010 | 19A
Federal Correctional Institution Herlong | 741 925 Herlong Access Rd | Herlong | CA | 96113 | Justice | 3010 | 19A
Pond Mine | Sec 3, T12N R10E MDBM | Forest Hill | CA | 95631 | Interior—Bureau of Land Management | 103a | 19A
Kelly Silver Mine | Hwy 395 | Red Mountain | CA | 93558 | Interior—Bureau of Land Management | 103a | 19A
Poore Mine | Benedict Canyon Lane | Nevada Co | CA |  | Interior—Bureau of Land Management | 103a | 19A
USN Undersea Warfare Center | 801 Clematis St | West Palm Beach | FL | 33401 | Navy | 3010 | 19A
USDA FS Caribou-Targhee NF: Smoky Canyon Mine Site | Smoky Canyon Rd/FS Rd 110, 24 mi E of Soda Springs, T8S R45E Sec 24, 25 & 36; T8S R46E Sec 17, 18, 19, 20, 29, 30, 31 & 32; T9S R46E Sec 6, 7 & 18; T9S R45E Sec 1, 12 & 13, Boise Meridian | Soda Springs | ID | 83276 | Agriculture—Forest Service | Other | 19A
USDOI BLM Idora Mine and Mill Site | Carbon Center Road, 10 mi SE of Pritchard, 10 mi N of Wallace, T49N R5E Sec 30 | Wallace | ID | 83873 | Interior—Bureau of Land Management | Other | 19A
USDA FS Boise NF: Belshazzar Mine | Granite Creek Road, 3 mi W of Placerville, T7N R4E Sec 17, Boise Meridian | Placerville | ID | 83666 | Agriculture—Forest Service | Other | 19A
U.S. Army Corps of Engineers, Rock Island District, Lock and Dam 12 |  | Hanover Township | IL | 61041 | Corps of Engineers, Civil | 3016 | 19A
U.S. Army Corps of Engineers, Cape Cod Canal, Bourne Bridge Lead Abatement Project | 40 Academy Drive | Buzzards Bay | MA | 02532 | Corps of Engineers, Civil | 3010 | 19A
VA Medical Center | 1400 VFW Parkway | West Roxbury | MA | 02132 | Veterans Affairs | 3010 | 19A
U.S. VA Medical Center Brockton | 940 Belmont St | Brockton | MA | 02401 | Veterans Affairs | 3010 | 19A
Aberdeen Proving Ground (Michaelsville Landfill) | Off Rte 40 | Aberdeen | MD | 21005 | Army | 103c | 17
VA Medical Center—St Cloud | 4801 Veterans Dr | St. Cloud | MN | 56303 | Veterans Affairs | 3010 | 19A
National Geospatial-Intelligence Agency | 3200 South 2nd Street | St. Louis | MO | 63118 | NGA—St. Louis | 3010, 103c | 17
Old Saint Louis Base | Foot of Iron St. & Mississippi River | St Louis | MO | 63111-2336 | Homeland Security—Coast Guard | 103c | 19A
Overton Gravel Pit Trespass Site | ¼ Mi W OF Hwy 169 | Overton | NV | 89040 | Interior—Bureau of Reclamation | 3010 | 19A
Samuel S Stralton VA Medical Center | 113 Holland Ave | Albany | NY | 12208 | Veterans Affairs | 3010 | 19A
USNAVY Boardman Naval Weapons Systems Training Site | Bombing Range Road, 6 mi S of Boardman | Boardman | OR | 97818 | Navy | Other | 19A
Letterkenny Army Depot (PDO Area) | N Franklin Street | Franklin County | PA | 17201 | Army | 103c | 17
USPFO for Tennessee ARNG | HQ (STARC) Houston Barracks | Nashville | TN | 37204 | Army | 3010 | 19A
Naval Support Activity Mid-South | Willis Gate @ Navy Road | Millington | TN | 38054 | Navy | 3010 | 19A
Camp Williams | 5 Mi W of Lehi | Lehi | UT | 84043 | Army | 103c | 19A
Pershing Project—Blanding Launch Complex | 7 Mi SW of Blanding | Blanding | UT | 84511 | Army | 103c | 19A
King Edward Mine | 18 Mi NW of Blanding | Blanding | UT | 84511 | Agriculture—Forest Service | 103c | 19A
UTTR South Wendover AFAR-AL501 | 5 Mi SW of Wendover | Wendover | UT | 84083 | Air Force |  | 19A
St. Juliens Creek Annex (U.S. Navy) | Victory Boulevard | Chesapeake | VA | 23323 | Navy | 103c | 17
COE-Civil Lower Granite Dam | Granite-Almota Road, 21 mi SW of Colfax, T14N R43E Sec 29 | Colfax | WA | 99111 | Corps of Engineers, Civil | 3010 | 19A
USDOI BR Hazardous Waste Site | T19N R23E SEC 31, Willamette Meridian, 25 mi W of George, 35 mi SW of Quincy | Quincy | WA | 98848 | Interior—Bureau of Reclamation | 3010 | 19A
USHS CG Burrows Island Light Station | SW side of Burrows Island, 5 mi SW of Anacortes | Anacortes | WA | 98221 | Homeland Security—Coast Guard | 3010 | 19A
USDOI BIA Signal Peak Ranger Station | BIA 140 Rd-Signal Peak Road, 24 mi SW of White Swan, T9N R13E Sec 25, Willamette Meridian | White Swan | WA | 98952 | Interior—Bureau of Indian Affairs | 3010 | 19A
USDA FS Mt. Baker-Snoqualmie NF: Rainy Mine & Mill Site | FS Rd 5640, 12 mi NE of North Bend, T24N R10E Sec 9 & 16, Willamette Meridian | North Bend | WA | 98045 | Agriculture—Forest Service | Other | 19A

Federal Agency Hazardous Waste Compliance Docket Update #23—Corrections
Facility name | Address | City | State | Zip code | Agency | Reporting mechanism | Code
c-BLM Chaffee County Landfill | T.51.N.R.8.E. Sec.21, U.S. Hwy 285 10M North of Salida | Salida | CO | 81201 | Interior—Bureau of Land Management | 103c | 20A
o-BLM Chaffee County Landfill | T.51.N.R.8.E. Sec.21, U.S. Hwy 285 10M North of Salida | Salida | CO |  | Interior—Bureau of Land Management | 103c
c-BLM Eagle County Landfill | T.4. N.R.83.W. Sec.10 & 11 | Eagle | CO | 81613 | Interior—Bureau of Land Management | 103c | 20A
o-BLM Eagle County Landfill | T.4. N.R.83.W. Sec.10 & 11 |  | CO |  | Interior—Bureau of Land Management | 103c
c-BLM Fremont | T.48.N.R.12.E. Sec.19 | Cotopaxi | CO | 81223 | Interior—Bureau of Land Management | 103c | 20A
o-BLM Fremont | T.48.N.R.12.E. Sec.19 | Cata Paxi | CO |  | Interior—Bureau of Land Management | 103c
c-BLM Kremmling Dump | T.1.N.R.80.E. Sec.9 | Kremmling | CO | 80459 | Interior—Bureau of Land Management | 103c | 20A
o-BLM Kremmling Dump | T.1.N.R.80.E. Sec.9 | Kremmling | CO |  | Interior—Bureau of Land Management | 103c
c-BLM Maybell Dump |  | Maybell | CO | 81640 | Interior—Bureau of Land Management | 103c | 20A
o-BLM Maybell Dump |  | Moffatt County | CO |  | Interior—Bureau of Land Management | 103c
c-BLM San Miguel Landfill #1 | T.44.N.R.15.W. Sec.26 | Naturita | CO | 81422 | Interior—Bureau of Land Management | 103c | 20A
o-BLM San Miguel Landfill #1 | T.44.N.R.15.W. Sec.26 | Nataurita | CO |  | Interior—Bureau of Land Management | 103c
c-Cortez Organizational Maintenance Shop | PO Box E | Cortez | CO | 81321 | Army | 3016 | 20A
o-Cortez Organizational Maintenance Shop | PO Box E | Cortez | CO |  | Army | 3016
c-National Water Quality Laboratory | 5293 Ward Rd | Denver | CO | 80002 | Interior | 3010 3016 103c | 20A
o-National Water Quality Laboratory | 5293 Ward Rd | Denver | CO | 80225 | Interior | 3010 3016 103c |
c-Shriever AFS Transformer Storage Area | 500 Navstar St | Colorado Springs | CO | 80912 | Air Force | 103a | 20A
o-Shriever AFS Transformer Storage Area | 500 Navstar St | Colorado Springs | CO |  | Air Force | 103a
c-Defense Industrial Plant Equipment | Old Rt. 1, P.O. Box 532, 6675 Sherman Road | Atchison | KS | 66002 | Army | 103c | 21
o-Defense Industrial Plant Equipment | Old Rt. 1, P.O. Box 532, 6675 Sherman Road | Atchison | KS | 66002 | Defense Logistics Agency | 103c
c-BLM Illegal Airstrip John Greytak | Section 6 T.11N.R.27.E | Flatwillow | MT | 59059 | Interior—Bureau of Land Management | 103c | 20A
o-BLM Illegal Airstrip John Greytak | Section 6 T.11N.R.27.E | Flatwillow | MT |  | Interior—Bureau of Land Management | 103c
c-BLM Roundup Landfill | 1.5 Miles Northwest of Roundup | Roundup | MT | 59072 | Interior—Bureau of Land Management | 103c | 20A
o-BLM Roundup Landfill | 1.5 Miles Northwest of Roundup | Roundup | MT |  | Interior—Bureau of Land Management | 103c
c-BLM Sluice Gulch Leaking Adit | T.6.SR.15.W. Sec.5 | Phillipsburg | MT | 59858 | Interior—Bureau of Land Management | 103c | 20A
o-BLM Sluice Gulch Leaking Adit | T.6.SR.15.W. Sec.5 |  | MT |  | Interior—Bureau of Land Management | 103c
c-BLM Steamboat Point | T.25.N.R.10.E. Sec.18 PMM | Loma | MT | 59460 | Interior—Bureau of Land Management | 103c | 20A
o-BLM Steamboat Point | T.25.N.R.10.E. Sec.18 PMM | Loma | MT |  | Interior—Bureau of Land Management | 103c
c-Precious Metals Plating | Star Route Box 85 | Bonner | MT | 59823 | Housing and Urban Development | 103c 3010 | 20A
o-Precious Metals Plating | Star Route Box 85 | Bonner | MT |  | Housing and Urban Development | 103c 3010
c-Tucson/Hebrew Academy | NW 1/4 Section 26, T 37N, R 9W | Port of Del Bonita | MT | 59427 | Interior | 103c | 20A
o-Tucson/Hebrew Academy | NW 1/4 Section 26, T 37N, R 9W |  | MT |  | Interior | 103c
c-Montana Air National Guard OMS #2 | International Airport | Missoula | MT | 59801 | Air Force | 3010 | 20A
o-Montana Air National Guard OMS #2 | International Airport | Great Falls | MT | 59401 | Air Force | 3010
c-USDA Biosciences Research Lab | 1605 W. College St. | Fargo | ND | 58105 | Agriculture | 3010 3016 103c | 20A
o-North Dakota Agricultural Experiment Station | 1605 W. College St. | Fargo | ND | 58105 | Agriculture | 3010 3016 103c |
c-Stanley R Mickelsen Safeguard Complex-(RSL-4) Remote Sprint LA | 1 Mile Southwest of Fairdale | Fairdale | ND | 58229 | Air Force | 103c | 20A
o-Stanley R Mickelsen Safeguard Complex-(RSL-4) Remote Sprint LA | 1 Mile Southwest of Fairdale | Fairdale | ND | 58205 | Air Force | 103c
c-Air Force Real Property Agency (formerly Griffiss Air Force Base) | 153 Brooks Rd | Rome | NY | 13441 | Air Force | 3005 3010 3016 103c | 20A
o-Griffiss Air Force Base | 153 Brooks Rd | Rome | NY | 13441 | Air Force | 3005 3010 3016 103c |
c-Letterkenny Army Depot (SE Area) | N Franklin St Ext | Chambersburg | PA | 17201 | Army | 3005 3010 3016 103c 103a | 20A
o-Letterkenny Army Depot | N Franklin St Ext | Chambersburg | PA | 17201 | Army | 3005 3010 3016 103c 103a |
c-American Fork Canyon/Uinta National |  | Pleasant Grove | UT | 84062 |  | 103c | 20A
o-American Fork Canyon/Uinta National |  | Pleasant Grove | UT | 84601 |  | 103c
c-USFS Santaquin Mudslide | 1 Mile Northeast of Santaquin | Santaquin | UT | 84401 | Agriculture | 103c 3016 | 20A
o-USFS Santaquin Mudslide | 1 Mile Northeast of Santaquin | Santiquin | UT | 84401 | Agriculture | 103c 3016
c-Langley Air Force Base/NASA Langley Research Center | Off State Highway 187 | Hampton | VA | 23665 | NASA | 3010 3016 103c | 20A
o-Langley Research Center | Mail Stop 453 | Hampton | VA | 23665 | NASA | 3010 3016 103c |
c-Naval Amphibious Base Little Creek | Shore Drive (U.S. Route 60) | Virginia Beach | VA | 23455 | Navy | 3005 3010 3016 103c 103a | 20A
o-Little Creek Naval Amphibious Base | Little Creek | Norfolk | VA | 23521 | Navy | 3005 3010 3016 103c 103a |
c-NWS Yorktown—Cheatham Annex | Cheatham Annex, Naval Supply Center | Yorktown | VA | 23185 | Navy | 3005 3010 3016 103c | 20A
o-Williamsburg Naval Supply Center Cheatham Annex | Naval Supply Center, Norfolk | Williamsburg | VA | 23185 | Navy | 3005 3010 3016 103c |
c-Naval Weapons Station—Yorktown | US Naval Weapons Station | Yorktown | VA | 23690 | Navy | 3005 3010 3016 103c | 20A
o-Yorktown Naval Weapons Station | N/A | Yorktown | VA | 23691 | Navy | 3005 3010 3016 103c |

Federal Agency Hazardous Waste Compliance Docket Update #23—Deletions
Facility name | Address | City | State | Zip code | Agency | Reporting mechanism | Code
PRI South Pacific Inc | Utulei | Pago Pago | AS | 96799 |  | −3010 | 2
Triumph Air Repair Inc | 4010 S 43rd Pl | Phoenix | AZ | 85040 |  | −3010 | 2
DEA Apache Junction | 1891 South Apache | Apache Junction | AZ |  | Justice | 103a | 2
DEA Ashfork | 12 M. SE of Ashfork | Ashfork | AZ |  | Justice | 103a | 2
DEA Mesa | 1764 North Mesa Drive | Mesa | AZ |  | Justice | 103a | 2
DEA Sierra Vista | 1031 East Acacia | Sierra Vista | AZ |  | Justice | 103a | 2
DEA Phoenix | 10809 North 40th Street | Phoenix | AZ |  | Justice | 103a 103c | 2
Hu Hu Kam Memorial Hospital | PHS Indian Health Service | Sacaton | AZ | 85247 | Health and Human Services | 3010 | 1
BR Davis Dam | St. Highway 68, 3 Mi N of City | Bullhead City | AZ | 86430 |  | 3010 | 1
BR Yuma | South Side of Levey Road | Yuma | AZ |  | Interior | 103a | 1
Hassayampa/Lynx Creek Abandoned Mines | 5 Miles SE Prescott-Prescott Natl Forest | Prescott | AZ | 86301 | Agriculture | 103c 3016 103a | 6
BR-Golden Falcon Site | 23rd St at Ave C | Yuma | AZ | 85364 |  | 103c | 6
Shasta-Trinity NF: Lakeshore Landfill | 2400 Washington Avenue | Redding | CA | 96001 | Agriculture | 103c 3016 | 7
Camp Roberts Training Site | Hwy 101 | Camp Roberts | CA | 93451 | Army | 3010 | 7
Pacific Environs-Johnston Atoll | APO | San Francisco | CA | 96305 | Air Force | 3016 | 6
George Air Force Base-Superior Valley Range | S13 14 24 T305 R46E | China Lake | CA | 99999 | Air Force | 103c 3005 | 7
LAAFB Fort Macarthur Annex | 2400 Pacific Avenue | San Pedro | CA | 90731 | Air Force | 3016 103c | 7
Los Angeles Air Force Base | 2400 Pacific Ave | Los Angeles | CA | 90009 | Air Force | 3010 | 7
Aerospace Corporation | 2400 EL Segundo Blvd | El Segundo | CA | 90245 | Defense Logistics Agency | 3010 | 7
Tustin Marine Corps Air Station-Helicopter | USMC Air Station | Tustin | CA | 92710-5001 | Navy | 3005 3010 103c | 7
Action Battery Manufacturing Company | 4700-02 W Rosecrans | Hawthorne | CA | 90250 |  | −3010 | 2
Carlsbad Narcotics Task Force | 2461 Impala | Carlsbad | CA | 92008 | Justice | 103a | 6
MCLB Barstow | 3 Miles East of Barstow on I40 | Barstow | CA | 92311 | Navy | 3005 3010 3016 103c 103a | 6
Naval Facilities Engineering Service Center | 560 Center Drive | Port Hueneme | CA | 91766 | Navy | 3010 103a 103c 3016 | 6
Express Cleaners | 1170 Arnold Dr # 140 | Martinez | CA | 94553 |  | −3010 | 2
Garage, State of California | 570 Ellis | San Francisco | CA | 94109 |  | −3010 | 2
General Chemical Company | 5568 Schaefer Ave | Chino | CA | 91710 |  | −3010 | 2
Lemon Grove Camera | 7848 Broadway | Lemon Grove | CA | 92045 |  | −3010 | 2
Lester Miller Farm | Miller Rd North of Hahn Road | Arbuckle | CA | 95912 |  | −3016 | 2
Los Angeles County of, Mechanical Dept | 1100 N Eastern Ave | Los Angeles | CA | 90063 |  | −3010 | 2
Performance West Petroleum | 2065 Martin Ave #106 | Santa Clara | CA | 95050 |  | −3010 | 2
Prototype Concepts Inc | 1945 Placentia Ave | Costa Mesa | CA | 92627 |  | −3010 | 2
Radionics Inc | 1800 Abbott | Salinas | CA | 93901 |  | −3010 | 2
Santa Barbara County Roadyard | 4415 Cathedral Oaks Road | Santa Barbara | CA | 93110 |  | −3010 | 2
Royce Del Metals | North Blosser & West Main St | Santa Maria | CA |  | Corps of Engineers, Civil | 103a | 2
Cottonwood Station | 40 Silverwood | Summit Valley | CA | 92387 |  | −3010 | 1
Logistics Support Center | 1310 Cucamonga Ave | Ontario | CA | 91761 |  | −3010 | 1
BR Cachuna O&M Board | Cachuna Lake | Santa Barbara | CA | 93105 | Interior | 3010 | 1
Los Angeles Federal Reserve Bank | 950 S Grand | Los Angeles | CA | 90015 | Federal Reserve Board | 3010 | 1
Los Angeles Federal Reserve Bank | 409 W Olympic Blvd | Los Angeles | CA | 90015 | Federal Reserve Board | 3010 | 1
San Francisco Federal Reserve Bank | 101 Market Street | San Francisco | CA | 94105 | Federal Reserve Board | 3010 | 1
Delta Airlines-Denver | Stapleton Airport | Denver | CO | 80238 |  | −3010 103c | 2
FPSD Pistol Range | 4th St & M St SW | Washington | DC | 20407 | General Services Administration | 3010 | 6
Wahiawa NCTAMS EASTPAC | Off Center St Oahu Island | Wahiawa | HI | 96786 | Navy | 103c 3010 | 6
Ritchie Rubbleville | 2001 Ritchie Marlboro Highway | Upper Marlboro | MD |  | Navy | 103a | 2
Assayers Laboratories | 2155 Last Chance Rd | Elko | NV | 89801 |  | −3010 | 2
Norfolk Facility | 200 Ligon Street | Norfolk | VA |  | -Navy | 103a | 2
Fine Petroleum | 2801 St Julian Ave | Norfolk | VA | 23510 | EPA | 3010 | 2
Goodwin Junkyard | Route 659 Kings Cove Road/Box 98 | Carrollton | VA | 22314 |  | −3010 103c | 2
Langley Air Force Base | 1 CSG/DE | Langley AFB | VA | 23665 | Air Force | 3005 3010 3016 103c 103a | 6
Manchester Tank & Equipment Co | Air Park Dr Rte 684 | Petersburg | VA | 23803 |  | −3010 | 2
Fauquier County Landfill | Route 674 | Fauquier | VA | 22186 |  | −103c | 2
Cheyenne Organizational Maintenance Shop #4 | P.O. Box 1709 | Cheyenne | WY | 82003 |  | −3016 | 6
BLM Granby Landfill | 2.N.77.W.Sec.26827 | Granby | CO | 80480 | Interior—Bureau of Land Management | 103c | N
Baltimore Postal Service Vehicle Maintenance | 60 W Oliver Street | Baltimore | MD | 21201 | Postal Service | 3010 | N
U.S. Medical Federal Bureau of Prisons | 1900 W. Sunshine | Springfield | MO | 65801 | Justice | 103c | N
Marquand (ex) Gap Filler Annex | NW ¼ Section 18, T32N, R8E | Marquand | MO | 63655 | Agriculture | 3016 | N
Lynn Keller Farm | Sec 6 T16N R8E | Cedar Bluffs | NE | 68015 | Agriculture | 3016 | N
Yorktown Reserve Training Center | Route 238 SE Corner of York Co | Yorktown | VA | 23690 | Homeland Security | 3010 | N
Robert C. Byrd Locks and Dam | RT 2 | Apple Grove | WV | 25502 | Corps of Engineers, Civil | 103a | N

[FR Doc. E8-27972 Filed 11-24-08; 8:45 am]

BILLING CODE 6560-50-P